ENVIRONMENTAL PROTECTION AGENCY

[ER-FRL-9013-8]

Environmental Impact Statements; Notice of Availability

Responsible Agency: Office of Federal Activities, General Information (202) 564-7146 or http://www.epa.gov/compliance/nepa/.

Weekly receipt of Environmental Impact Statements

Filed 02/24/2014 Through 02/28/2014

Pursuant to 40 CFR 1506.9.

Notice

Section 309(a) of the Clean Air Act requires that EPA make public its comments on EISs issued by other Federal agencies. EPA's comment letters on EISs are available at: http://www.epa.gov/compliance/nepa/eisdata.html.

EIS No. 20140053, Draft EIS, FHWA, IL, US 51 Pana to Centralia, Comment Period Ends: 04/21/2014, Contact: Catherine A. Batey 217-492-4600.

EIS No. 20140054, Revised Draft EIS, USFS, CA, Harris Vegetation Management Project, Comment Period Ends: 04/25/2014, Contact: Emelia H. Barnum 530-926-4511 ext. 1600.

EIS No. 20140055, Final Supplement, USACE, FL, Jacksonville Harbor Navigation, Review Period Ends: 04/07/2014, Contact: Samantha Borer 904-232-1066.

EIS No. 20140056, Draft EIS, USFS, CO, Vail Mountain Recreation Enhancements Project, Comment Period Ends: 04/21/2014, Contact: Roger Poirier 970-945-3212.

EIS No. 20140057, Final EIS, BOEM, 00, PROGRAMMATIC—Geological and Geophysical Activities in Federal Waters of the Mid- and South Atlantic Outer Continental Shelf and Adjacent State Waters, Review Period Ends: 04/07/2014, Contact: Gary D. Goeke 504-736-3233.

EIS No. 20140058, Final EIS, USFS, AZ, Kaibab National Forest Plan Revision, Review Period Ends: 06/05/2014, Contact: Ariel Leonard 928-635-8283.

EIS No. 20140059, Final Supplement, NRC, WY, Ross In-Situ Leach Recovery (ISR) Project, Supplement to the Generic Environmental Impact Statement for In-Situ Leach Uranium Milling Facilities, Review Period Ends: 04/07/2014, Contact: Johari Moore 301-415-7694.

EIS No. 20140060, Draft Supplement, USACE, MS, PROGRAMMATIC EIS—Mississippi Coastal Improvements Program (MsCIP), Comprehensive Barrier Island Restoration, Hancock, Comment Period Ends: 04/21/2014, Contact: Susan I. Rees 251-694-4141.

EIS No. 20140061, Final EIS, FERC, NY, Rockaway Delivery Lateral and Northeast Connector Projects, Review Period Ends: 04/07/2014, Contact: Kara Harris 202-502-6296.

Amended Notices

EIS No. 20130381, Draft EIS, FHWA, TX, US 181 Harbor Bridge Project, Comment Period Ends: 03/18/2014, Contact: Gregory S. Punske 512-536-5960.

Revision to the FR Notice Published 01/03/2014; Extending Comment Period from 03/03/2014 to 03/18/2014.

Dated: March 4, 2014.
James G. Gavin,
Environmental Protection Specialist, Office of Federal Activities.

[FR Doc. 2014-05011 Filed 3-6-14; 8:45 am]

BILLING CODE 6560-50-P